DEPARTMENT OF ENERGY

Western Area Power Administration

Post-2010 Resource Pool, Pick-Sloan Missouri Basin Program—Eastern Division

AGENCY: Western Area Power Administration, DOE.

ACTION: Notice of request for letters of interest.

SUMMARY: The Western Area Power Administration (Western), Upper Great Plains Region, a Federal power marketing agency of the Department of Energy (DOE), is publishing this notice of Request for Letters of Interest from entities interested in an allocation of Federal power, to gather information to aid Western in determining the appropriate purposes for this proposed resource pool, and/or to provide comments regarding a proposed resource pool. A Federal power resource pool increment of up to 1 percent of the long-term marketable resource of the Pick-Sloan Missouri Basin Program—Eastern Division (P-SMBP—ED), up to approximately 20 megawatts, may become available January 1, 2011, under the Energy Planning and Management Program (Program). This Federal Register notice initiates the process for the proposed resource pool.

DATES: Western will hold one public information forum, on July 24, 2007, at 1:30 p.m. CDT.

ADDRESSES: Send Letters of Interest to Mr. Robert J. Harris, Regional Manager, Upper Great Plains Region, Western Area Power Administration, 2900 4th Avenue North, Billings, MT 59101-1266, or e-mail ugppost2010@wapa.gov. The public information forum will be held at the Holiday Inn, 100 West 8th Street, Sioux Falls, South Dakota.

FOR FURTHER INFORMATION CONTACT: Mr. John A. Pankratz, Public Utilities Specialist, Upper Great Plains Region, Western Area Power Administration, 2900 4th Avenue North, Billings, MT 59101-1266, telephone (406) 247-7392, e-mail pankratz@wapa.gov.

SUPPLEMENTARY INFORMATION: On October 20, 1995, Western published the Final Program Rule. The Final Rule became effective on November 20, 1995. Subpart C-Power Marketing Initiative of the Program, Final Rule, 10 CFR part 905, published at 60 FR 54151, provides for project-specific resource pools and allocations of power from these pools to eligible new customers and/or for other appropriate purposes as determined by Western. The goal of the Program is to require planning for efficient electric energy use by Western's long-term firm power customers. Specifically, 10 CFR part 905.32(b) provides:

At two 5-year intervals after the effective date of the extension to existing customers, Western shall create a project-specific resource pool increment of up to 1 percent of the long-term marketable resource under contract at the time. The size of the additional resource pool increment shall be determined by Western based on consideration of the actual fair-share needs of eligible new customers and other appropriate purposes.

Letters of Interest for the proposed P-SMBP—ED resource pool should contain the following information: Name(s) of the interested entity, entity's interest, geographic location of the entity, and suggested appropriate purposes of the resource pool. Letters of Interest will aid Western in determining potential eligible new customers and/or the appropriate purposes for the proposed resource pool. All Letters of Interest must be received by 4 p.m., MDT, on August 20, 2007. Letters of Interest submitted via regular mail through the United States Postal Service will be accepted if postmarked at least 3 days before August 20, 2007, and received no later than August 24, 2007. Western reserves the right to not consider any Letters of Interest that are received after the prescribed dates. Western does not consider Letters of Interest as a means for application to this resource pool. Calls for application, if determined to be necessary, will be made in a subsequent notice published in the Federal Register.

Availability of Information

All documents developed or retained by Western in developing this Post-2010 Resource Pool will be available for inspection and copying at the Upper Great Plains Regional office in Billings, Montana. Letters of Interest will be available for viewing at http://www.wapa.gov/ugp/Post2010/default.htm after the close of the submittal period.

Resource Pool Procedure Requirements

Determination Under Executive Order 12866

Western has an exemption from centralized regulatory review under Executive Order 12866; accordingly, no clearance of this notice by the Office of Management and Budget is required.

Environmental Compliance

Western completed an environmental impact statement on the Program, pursuant to the National Environmental Policy Act of 1969 (NEPA). The Record of Decision was published in the Federal Register on October 12, 1995 (60 FR 53181). Western will comply with any additional NEPA requirements for this resource pool.

Dated: May 30, 2007.
Timothy J. Meeks,
Administrator.

[FR Doc. E7-12219 Filed 6-22-07; 8:45 am]

BILLING CODE 6450-01-P